DEPARTMENT OF LABOR

Employment and Training Administration

[Docket No. [TA-W-38, 495]

VF Imagewear, East (Formerly VF Knitwear) Martinsville, Virginia Including Employees of VF Imagewear East Located in Golden Valley, Minnesota Dallas, Texas, Portland, Oregon, Salisbury, Maryland; Amended Certification Regarding Eligibility To Apply Worker Adjustment Assistance

In accordance with section 223 of the Trade Act of 1994 (19 U.S.C. 2273) the Department of Labor issued a Certification of Eligibility to Apply for Worker Adjustment Assistance on April 17, 2001, applicable to workers of VF Imagewear East (formerly VF Knitwear), Martinsville, Virginia. The notice was published in the Federal Register on May 3, 2001 (66 FR 22262).

At the request of the company, the Department reviewed the certification for workers of the subject firm. New information shows that worker separations occurred involving employees of the Martinsville, Virginia facility of VF Imagewear East, (formerly VF Knitwear), located in Golden Valley, Minnesota, Dallas, Texas, Portland, Oregon and Salisbury, Maryland. These employees are engaged in employment related to the production of fleece apparel, including jerseys and T-shirt at the Martinsville, Virginia location of the subject firm.

Based on these findings, the Department is amending this certification to include employees of the Martinsville, Virginia facility of VF Imagewear East, (formerly VF Knitwear), located in Golden Valley, Minnesota, Dallas, Texas, Portland, Oregon and Salisbury, Maryland.

The intent of the Department's certification is to include all workers of VF Imagewear East (formerly VF Knitwear) adversely affected by increased imports.

The amended notice applicable to TA-W-38, 495 is hereby issued as follows:

“All workers of VF Imagewear East, (formerly VF Knitwear), Martinsville, Virginia, including workers of the Martinsville, Virginia facility located in Golden Valley, Minnesota, Dallas, Texas, Portland, Oregon and Salisbury, Maryland, who became totally or partially separated from employment on or after December 13, 1999, through April 17, 2003, are eligible to apply for adjustment assistance under Section 223 of the Trade Act of 1974.”

Signed at Washington, DC this 24th day of December, 2001.
Linda G. Poole,
Certifying Officer, Division of Trade Adjustment Assistance.

[FR Doc. 01-32210 Filed 12-31-01; 8:45 am]

BILLING CODE 4510-30-M